CONSUMER PRODUCT SAFETY COMMISSION

Notice of Consultation Pursuant to Section 106 of the CPSIA; Request for Comments and Information

AGENCY: Consumer Product Safety Commission.

ACTION: Notice.

SUMMARY: Section 106 of the Consumer Product Safety Improvement Act of 2008 (CPSIA) requires the Consumer Product Safety Commission (“CPSC” or “Commission”) to examine and assess, in consultation with consumer groups, juvenile product manufacturers, and independent child product engineers and experts, the effectiveness of ASTM F963-07, “Standard Consumer Safety Specification for Toy Safety,” or its successor standard (except for section 4.2 and Annex 4), as it relates safety requirements, safety labeling requirements, and test methods related to: (1) Internal harm or injury hazards caused by the ingestion or inhalation of magnets in children's products; (2) toxic substances; (3) toys with spherical ends; (4) hemispheric-shaped objects; (5) cords, straps, and elastics; and (6) battery-operated toys. This notice is issued to facilitate the receipt of any written submissions on these matters as part of the consultative process required by section 106 of the CPSIA. The Commission invites comments concerning the issues discussed in this notice.

DATES: Comments and submissions in response to this notice must be received by August 20, 2009.

ADDRESSES: You may submit comments, identified by Docket No. CPSC-2009-0047, by any of the following methods:

Electronic Submissions

Submit electronic comments in the following way:

Federal eRulemaking Portal: http://www.regulations.gov. Follow the instructions for submitting comments. To ensure timely processing of comments, the Commission is no longer accepting comments submitted by electronic mail (e-mail) except through http://www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Jonathan Midgett, PhD, Office of Hazard Identification and Reduction, U.S. Consumer Product Safety Commission, 4330 East-West Highway, Suite 600, Bethesda, MD 20814; telephone (301) 504-7692; e-mail jmidgett@cpsc.gov.

SUPPLEMENTARY INFORMATION: The CPSIA was enacted on August 14, 2008. Section 106 of the CPSIA, “Mandatory Toy Safety Standards,” made ASTM International Standard F963-07, “Standard Consumer Safety Specification for Toy Safety” (ASTM F963), as it existed on August 14, 2008 (except for section 4.2 and Annex 4 or any provision that restates or incorporates an existing mandatory standard or ban promulgated by the Commission or by statute), into mandatory consumer product safety standards issued by the Commission under section 9 of the Consumer Product Safety Act (15 U.S.C. 2058).

On February 17, 2009, ASTM proposed revisions in F963-08, a successor standard, for the Commission's consideration. On May 13, 2009, the Commission voted to accept all of the proposed revisions in ASTM F963-08 except the revision that would have omitted section 4.27, which addresses toy chests, from the standard. The revisions in F963-08 that were accepted by the Commission will become mandatory consumer product safety standards on August 17, 2009.

Section 106(b)(1) of the CPSIA requires the Commission, in consultation with representatives of consumer groups, juvenile product manufacturers, and independent child product engineers and experts, to examine and assess the effectiveness of ASTM F963 or its successor standard (except for section 4.2 and Annex 4), as it relates safety requirements, safety labeling requirements, and test methods related to:

(1) Internal harm or injury hazards caused by the ingestion or inhalation of magnets in children's products;

(2) Toxic substances;

(3) Toys with spherical ends;

(4) Hemispheric-shaped objects;

(5) Cords, straps, and elastics; and

(6) Battery-operated toys.

Section 106(b)(2) of the CPSIA requires the Commission to promulgate consumer product safety standards that take into account other children's product safety rules and are more stringent than such standards if the Commission determines that more stringent standards would further reduce the risk of injury associated with such products.

As part of its efforts to comply with section 106 of the CPSIA, the Commission is issuing this notice in the Federal Register to invite public comment concerning the effectiveness of ASTM F963-08 in the following areas:

1. Hazardous Magnets—The requirements for toys with magnets address recent incidents involving small high-attraction-force magnets. Ingestion of these magnets can lead to perforations of the gut wall, causing infection, sepsis, or even death, as the magnets attract to each other through different sections of the intestines. To minimize the likelihood of children swallowing hazardous magnets, ASTM F963-08:

a. Defines hazardous magnets and hazardous magnetic components as those being small parts and containing a magnet with a Flux Index of 50 or greater.

b. Specifies a method for determining a magnet's Flux Index using a gauss meter.

c. Prohibits magnetic toys for children up to age 14 from containing hazardous magnets or magnetic components.

d. Specifies use and abuse test methods for magnetic toys that are not small parts, but have embedded hazardous magnets, to ensure that hazardous magnets will not liberate from the toy during normal usage. This test method includes cyclic and impact testing.

e. Allows hazardous magnets and hazardous magnetic components in hobby, craft and science kits for children over 8 years of age, provided that they contain a hazardous magnet warning.

f. Does not require a hazardous magnet warning on magnetic toys that are not small parts, but have embedded hazardous magnets, provided that they pass the specified use and abuse test methods.

2. Toxic Substances—The requirements address the risks of exposure to toxic substances. To minimize the likelihood of exposure to toxic substances, ASTM F963-08 addresses the following areas:

a. Federally prohibited hazardous substances;

b. Food and food packaging;

c. Food additives;

d. Toys in contact with food;

e. Ceramicware, lead and cadmium contamination;

f. Cosmetics;

g. Paint and similar coatings;

h. Liquids, pastes, putties, gels and powders;

i. Stuffing materials; and

j. DI (2-ethylhexyl) phthalate (DEHP) (also known as dioctyl phthalate (DOP)).

3. Toys with spherical ends—The requirements address potential impaction hazards for children up to 48 months with certain toys containing spherical ends. To minimize the likelihood of impaction hazards, ASTM F963-08:

a. Requires toys weighing less than 1.1-pounds for children up to 18 months that incorporate spherical, hemispherical, or flared ends and are attached to a shaft, handle or support that has a smaller cross section to meet the specified dimensional requirements.

b. Requires toys weighing less than 1.1-pounds for children 18 to 48 months having nail, screw or bolt shapes with spherical or hemispherical ends attached to a shaft or handle to meet the specified dimensional requirements.

c. Requires preschool play figures for children less than 3 years of age with a round, spherical, or hemispherical end and tapered neck attached to a cylindrical shape and an overall length of 2.5-inches or less to meet the specified dimensional requirements.

4. Hemispheric-shaped objects—The requirements address potential asphyxiation hazards with “cup” shaped objects that have the potential to fit on a child's face and allow a vacuum to be formed. To minimize the likelihood of these types of hazards, ASTM F963-08 requires certain toy cup, bowl or half-egg shaped objects to meet certain specified dimensional and opening requirements.

5. Cords, straps and elastics—The requirements address potential entanglement and strangulation hazards associated with cords, straps and elastics. To minimize the likelihood of these types of hazards, ASTM F963-08:

a. Requires toys for children less than 18 months with straps or elastics attached or included to be less than 12-inches in the free-state and under a 5-pound load.

b. Requires cords, straps and elastics that can form a loop to not admit a head probe when tested under the specified conditions.

c. Requires cords, straps and elastics that admit the base of the head probe to contain breakaway features that release at less than 5-pounds when tested in accordance with the specified conditions.

d. Requires certain toys with self-retracting pull cords for children less than 18 months of age to not retract under load in accordance with the specified conditions.

e. Requires cords, straps and elastics greater than 12-inches long for children less than 36 months of age to not contain beads or other attachments that could tangle to form a loop.

f. Requires toy bags for children up to 18 months of age that have a perimeter opening greater than 14-inches to not have a drawstring or cord as a means of closing.

6. Battery-Operated Toys—The requirements of F963-08 address the following areas to minimize the risk associated with battery operated toys:

a. Battery overheating;

b. Leakage;

c. Explosion and fire; and

d. Swallowing of batteries.

7. Comments may also be submitted on any other section of ASTM F963-08. Please note that all comments should be restricted to children's toy safety.

A link to ASTM F963-07 and F963-08, in a “read-only” format, may be viewed on ASTM's Web site at http://www.astm.org/cpsc.htm.

Comments submitted must follow the directions provided in the ADDRESSES section of this notice. All comments and submissions should be received no later than August 20, 2009.

Dated: July 14, 2009.
Todd A. Stevenson,
Secretary, Consumer Product Safety Commission.

[FR Doc. E9-17198 Filed 7-20-09; 8:45 am]

BILLING CODE 6355-01-P